DEPARTMENT OF THE INTERIOR

Fish and Wildlife Service

Endangered Species; Permits

AGENCY: Fish and Wildlife Service, Interior.

ACTION: Notice of issuance of permit for incidental take of endangered species.

On April 20, 2000, a notice was published in the Federal Register (Vol. 65, No. 77 FR 21203) that an application had been filed with the U.S. Fish and Wildlife Service (Service) by Magic Carpet Woods Association (Association), Traverse City, Michigan, for a permit to incidentally take, pursuant to section 10(a)(1)(B) of the Endangered Species Act of 1973 (16 USC 1539), as amended, piping plover (Charadrius melodus) on Lake Michigan shoreline owned by the Association pursuant to the terms of the Associations' Habitat Conservation Plan.

Notice is hereby given that on March 20, 2001, as authorized by the provisions of the Act, the Service issued a permit (TE-025433) to the above named party subject to certain conditions set forth therein. The permit was granted only after the Service determined that it was applied for in good faith, that granting the permit will not be to the disadvantage of the endangered species, and that it will be consistent with the purposes and policy set forth in the Endangered Species Act, as amended.

Additional information on this permit may be requested by contacting Peter Fasbender, at (612)713-5343, peter_fasbender@fws.gov.

Dated: April 16, 2001.
Charlie Wooley,
Assistant Regional Director, Ecological Services, Region 3, Fort Snelling, Minnesota.

[FR Doc. 01-11191 Filed 5-3-01; 8:45 am]

BILLING CODE 4310-55-P